DEPARTMENT OF TRANSPORTATION

Federal Motor Carrier Safety Administration

[Docket No. FMCSA-2004-18898]

Comprehensive Safety Analysis 2010 Initiative

AGENCY: Federal Motor Carrier Safety Administration, DOT.

ACTION: Notice of public listening session.

SUMMARY: The Federal Motor Carrier Safety Administration (FMCSA) is holding a public listening session to obtain feedback on the Agency's Comprehensive Safety Analysis 2010 initiative (CSA 2010), a comprehensive review and analysis of FMCSA's current commercial motor carrier safety and enforcement programs. FMCSA will use the upcoming listening session to inform the public on the conceptual direction and progress of CSA 2010, and obtain feedback from its partners and stakeholders. To facilitate the upcoming listening session, FMCSA has included in this notice a number of questions that commenters are invited to address.

DATES: The Public Listening Session will be held on November 16, 2006 from 8 a.m. to 1:30 p.m. Written comments must be received by December 18, 2006.

Location: The Public Listening Session will be held at the Hyatt Regency on Capitol Hill, 400 New Jersey Avenue, NW., Washington, DC 20001. The telephone number is (202) 737-1234.

ADDRESSES: You may submit comments identified by DOT Docket Management System (DMS) docket number FMCSA-2004-18898, using any of the following methods:

Web site: http://dmses.dot.gov. Follow the instructions for submitting comments on the DOT electronic docket site.

Fax: 202-493-2251.

Mail: Docket Management Facility, U.S. Department of Transportation, 400 Seventh Street, SW., Nassif Building, Room PL-401, Washington, DC 20590-0001.

Hand Delivery: Room PL-401 on the plaza level of the Nassif Building, 400 Seventh Street, SW., Washington, DC, between 9 a.m. and 5 p.m., Monday through Friday, except Federal holidays.

Federal e-Rulemaking Portal: Go to http://www.regulations.gov. Follow the online instructions for submitting comments.

FOR FURTHER INFORMATION CONTACT: Cathy McNair, Assistant Program Manager, CSA 2010, (202) 366-0790.

SUPPLEMENTARY INFORMATION: Format of Listening Session: During the Public Listening Session, FMCSA will describe its progress on CSA 2010 to date. FMCSA will accept comments on the CSA 2010 operational model and any additional information FMCSA should consider to promote the success of the CSA 2010 initiative.

The listening session will run from 8 a.m. to 1:30 p.m. Participant registration will be from 8 a.m. to 9 a.m. The session will include a morning plenary session (9 a.m.) and four facilitated breakout sessions (10:15 a.m. to 1:30 p.m.), related to the CSA 2010 operational model: (1) Measurement, (2) Safety Fitness Determination, (3) Intervention Selection, and (4) Safety Data and Validation. Attendees will be able to participate in one of the breakout sessions and will have an opportunity to comment on the key questions listed herein by topic, as well as hear the comments of other stakeholders assigned to the topic. More details on this process are included in the on-line pre-registration site.

Registration information and instructions: To attend the listening session, attendees can register online at http://www.csa2010.com. In addition to registration information, the registration Web site provides additional location and agenda details. To register, click the Register button on the left side of the homepage to display the online registration form. The registration form requests information about the attendee and breakout session preference. Due to size and space limitations, attendees may not be assigned to their first breakout session preference; however, FMCSA will strive to accommodate attendees' first or second choice. Once the form is complete, submit the form to complete the registration process and a registration confirmation will appear. If there are any questions, or if you prefer to register via telephone, please contact admin@csa2010.com or telephone (301) 495-8458.

Instructions for submitting written comments: Comments regarding CSA 2010 can also be filed with the Department of Transportation's Docket Management System (DMS). All submissions must include the Agency name and docket number for this Notice. Note that all comments received will be posted without change to http://dms.dot.gov, including any personal information provided. Please see the Privacy Statement heading for further information.

Docket: For access to the docket to read background documents or comments received, go to http://dms.dot.gov at any time or the docket (see ADDRESSES section above). If you want us to notify you that we received your comments, please include a self-addressed, stamped envelope, postcard, or print the acknowledgement page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

Background

In August 2004, FMCSA embarked on CSA 2010—a comprehensive review and analysis of FMCSA's current commercial motor vehicle safety compliance and enforcement programs (69 FR 51748, August 20, 2004). The goal of CSA 2010 is the development and deployment of a new operational model, a new approach to using FMCSA resources to identify drivers and operators that pose safety problems and to intervene to address those problems. FMCSA understands how important it is to the success of this initiative to obtain active and timely feedback from its partners and stakeholders. The Agency held a series of public listening sessions on CSA 2010 in September and October of 2004. These sessions were designed to collect public input regarding ways FMCSA could improve its process of monitoring and assessing the safety performance of the commercial motor carrier industry. Participants were a cross section of individuals including industry executives, truck and bus drivers, insurance and safety advocacy groups, State and local government officials, and enforcement professionals. FMCSA was encouraged that the majority of participants supported the agency's goal of improving the current process through the CSA 2010 initiative.

During the 2004 listening sessions, the stakeholder community expressed many different opinions regarding the various entities, activities, and environmental factors that contribute to safety. The sessions highlighted that safety indicators can be difficult to identify and measure. Participants also commented on the effectiveness of current processes and offered creative ideas for FMCSA to consider when crafting new policies and processes. For example, in almost every listening session, participants suggested using incentives rather than penalties to encourage safe behavior. Participants expressed a strong interest in comprehensive, consistent, relevant, and accurate data that are easily accessible to all. Some participants expressed a willingness to self-disclose data and to help keep safety data current. For further detail on the public listening sessions, visit FMCSA's Web site at http://www.fmcsa.dot.gov/safety-security/csalisteningsessions.htm and see the final report, “Comprehensive Safety Analysis Listening Sessions.”

On July 20, 1998, the Agency issued an Advanced Notice of Proposed Rulemaking (ANPRM), entitled “Safety Fitness Procedures” (63 FR 38788), seeking comments and supporting data on the issues that should be considered in developing a future safety fitness rating system. Many of the participants in the 2004 listening sessions suggested that FMCSA delay publishing a notice of proposed rulemaking until the Agency makes its final decisions regarding its long-term plan for monitoring safety under CSA 2010. Accordingly, the Agency withdrew the ANPRM (70 FR 67405, November 7, 2005).

Recently, FMCSA requested comments from the public on planned improvements to the Agency's Motor Carrier Safety Status Measurement System (SAFESTAT) algorithm (71 FR 36170, May 3, 2006). The SAFESTAT system analyzes current and historical safety performance and compliance information to rank the relative safety fitness of commercial motor carriers. SAFESTAT enables FMCSA to quantify and monitor trends in the safety status of individual motor carriers. FMCSA focuses compliance review and roadside inspection resources on carriers posing the greatest potential safety risk. SAFESTAT involves analytically assessing a motor carrier in four Safety Evaluation Areas (SEAs), including: (1) Accident, (2) Driver, (3) Vehicle, and (4) Safety Management. The Agency has proposed improvements that would simplify the Accident SEA, increase the relevance of moving violations in the Driver SEA, include in the Vehicle SEA vehicle out-of-service violations from inspections marked as driver-only, and shorten the data exposure time period considered by SAFESTAT from 30 months to 24 months. The proposed improvements are intended to make the algorithm more effective in identifying motor carriers that pose a high crash risk. The proposed changes are also consistent with FMCSA's CSA 2010 initiative. The ultimate goal of CSA 2010 is development of an optimal operational model that will allow FMCSA to focus its limited resources on improving the safety performance of high-risk operators. The comment period closed July 3, 2006.

The results of FMCSA's recent Large Truck Crash Causation Study also provide important input for the development of a new operational model. This study was the first nationwide examination focused on pre-crash factors. Study findings indicate that drivers of large trucks and other vehicles involved in truck crashes are ten times more likely to be the cause of the crash than other factors, such as weather, road conditions, and vehicle performance. These results suggest that efforts to assess safety performance and to apply interventions to improve performance should focus on drivers. Among the changes under consideration in CSA 2010 are several that would improve the data collected on drivers and would add interventions applicable to individual drivers. Additional information on the Large Truck Crash Causation Study is available at http://www.fmcsa.dot.gov.

Upcoming Listening Session: The purpose of the upcoming listening session is for FMCSA to update its stakeholders and partners on the progress that has been made since the listening sessions in 2004. To facilitate the upcoming listening session, FMCSA has included in this notice a number of questions designed to elicit input on possible features of the CSA 2010 operational model. In responding to the questions commenters are requested to provide supporting rationale, and supporting documentation wherever possible. FMCSA plans to hold annual CSA 2010 listening sessions to continue the process of updating partners and stakeholders and receiving feedback.

Current Operational Model: To understand FMCSA's goals for assessing and improving motor carrier safety, it is important to understand the Agency's current process. FMCSA currently collects several kinds of data on motor carriers, including Federal and State information on crashes and roadside inspections, results of on-site compliance reviews, and enforcement actions. FMCSA uses the data to (1) determine which motor carriers should be selected for on-site compliance reviews, and (2) determine the safety fitness of motor carriers. To analyze the data it collects, the Agency uses SAFESTAT.

Each month, SAFESTAT generates a list of high-priority motor carriers for which FMCSA plans compliance review visits. In selecting motor carriers for compliance reviews, SAFESTAT works with four SEAs referenced above: (1) Accident, (2) Driver, (3) Vehicle, and (4) Safety Management. For a full description of the SAFESTAT methodology, visit FMCSA's Web site at: http://ai.fmcsa.dot.gov.

FMCSA issues a safety fitness determination and a corresponding safety rating as a result of an on-site compliance review (CR). The CR assesses whether a commercial motor carrier's safety management controls are functioning effectively to ensure acceptable compliance with the safety fitness standard found at 49 CFR 385.5. Currently, the safety ratings that result from a CR are Satisfactory, Conditional, or Unsatisfactory. FMCSA may take enforcement actions against a motor carrier as a result of the CR.

Limitations of the Current Operational Model

FMCSA's compliance and safety programs improve and promote safety performance. However, despite increases in the regulated population, as well as increased programmatic responsibilities, Agency resources available for these efforts have remained relatively constant over time. In its present structure, FMCSA's CR program is resource-intensive and reaches only a small percentage of motor carriers. On-site CRs take one safety investigator an average of 3 to 4 days to complete, and thereby determine a motor carrier's safety fitness. At present staffing levels FMCSA can perform CRs on only a small portion of the 700,000 active interstate motor carriers. These factors have made it increasingly difficult to make sustained improvements to motor carrier safety using existing programs and information systems. In addition, the Large Truck Crash Causation Study clearly indicates that increased attention should be given to drivers. Although FMCSA determines, to a limited extent, the compliance and safety of commercial motor vehicle drivers and pursues enforcement against them if warranted, current FMCSA systems do not evaluate the safety fitness of individual commercial motor vehicle drivers.

For these reasons FMCSA is exploring ways through CSA 2010 to improve its current processes for monitoring and assessing the safety performance of motor carriers and drivers.

New Operational Model—CSA 2010

The goal of CSA 2010 is to develop a new approach to assessing the motor carrier safety performance of a larger segment of the motor carrier industry, while optimizing the use of Agency resources. CSA 2010 is designed to help FMCSA affect a larger number of motor carriers and drivers using a broader array of compliance interventions. In conceptualizing a new operational model, FMCSA began with a list of ideal attributes and components that it believes should be part of any model for safety oversight:

Flexible—Adaptable to Changing Environment. Accommodate changes to the transportation environment, such as evolutions in technology and changing programmatic responsibilities.

Efficient—Maximize Use of Resources. Produce greater efficiencies by maximizing use of resources to improve Agency productivity, as well as the safety performance of members of the motor carrier community.

Effective—Improve Safety Performance. Increase the quality of contact with the motor carrier community by identifying those behaviors associated with poor safety, and focusing compliance and safety efforts on those unsafe behaviors.

Innovative—Leverage Data and Technology. Improve safety by innovative use of data and technology to leverage its impact. Improve timeliness and accuracy of data used for determining safety fitness, and pursuing enforcement actions against unsafe entities of the motor carrier community. A key factor to the success of this component is the information technology/business transformation project COMPASS. More information on COMPASS is available at http://www.fmcsa.dot.gov.

Equitable—Fair and Unbiased. Assess and evaluate motor carrier safety and enforce federal laws and safety regulations to ensure consistent treatment of similarly situated members of the motor carrier community.

One conceptual operational model for CSA 2010 shown here would measure safety performance and compliance, determine safety fitness, recommend interventions, apply interventions, and track and evaluate safety improvements for FMCSA regulated entities. The model would continuously evaluate and monitor regulated entities' compliance and safety performance. It would be significantly different from the current model in that the safety fitness determination made under CSA 2010 would be independent of the compliance review. The safety fitness determination would be based on performance data and would lead to a broader array of compliance interventions.

A conceptual model of this nature would be composed of four integrated and independent components: (1) Measurement, (2) Safety Fitness Determination, (3) Intervention Selection, and (4) Tracking, Evaluation and Data Validation. These four components are represented as diamonds in the Operational Model Concept diagram above. Components are the portions of the operational model in which a distinct action would occur. These components would be supported by three data elements that are represented by boxes in the diagram. They are (1) Safety Data, (2) Intervention History, and (3) Entity Characteristics. Components and elements identified to date which could be supportive of the CSA 2010 initiative are described in greater detail below.

Measurement

A Measurement Component could collect, categorize, analyze, and score safety data on regulated entities. It could automatically categorize data into behavioral areas, examples of which are identified below as Behavioral Analysis and Safety Improvement Categories or BASICs. BASICs would represent behaviors that lead to or increase the consequences of crashes. Rather than rely on the results of a compliance review, FMCSA could use motor carrier or driver performance data in the identified behavioral areas to determine safety fitness. The Measurement Component could be supported by the Safety Data Element, which would include data from past interventions, crashes, motor vehicle/driver inspections, and other data sources. The goal of such a system would be to provide an objective, performance-based measure for each motor carrier and driver. The measurement could be regularly updated and made publicly available. Among the BASICs currently under consideration to generate this measure are:

1. Unsafe Driving—Dangerous or careless operation of commercial motor vehicles. Data would include driver traffic violations and convictions for speeding, reckless driving, improper lane change, inattention, and other unsafe driving behavior.

2. Fatigued Driving—Driving commercial motor vehicles when fatigued. This would be distinguished from incidents where unconsciousness or an inability to react is brought about by the use of alcohol, drugs, or other controlled substances. Data would include (1) hours-of-service violations discovered during a compliance review, focused review, roadside inspection, or post-crash inspection, and (2) crash reports with driver fatigue as a contributing factor.

3. Driver Fitness—Operation of commercial motor vehicles (CMVs) by drivers who are unfit to operate a CMV due to lack of training, experience, or medical qualification. Data would include (1) inspection violations for failure to have a valid and appropriate commercial driver's license, or medical or training documentation, (2) crash reports citing a lack of experience or medical reason as a cause or contributory factor, and (3) violations from a compliance review or focused review for failure to maintain proper driver qualification files, or use of unqualified drivers.

4. Controlled Substances and Alcohol—Operation of a CMV while impaired due to alcohol, illegal drugs, and misuse of prescription medications or over-the-counter medications. Data would include (1) roadside violations involving controlled substances or alcohol, (2) crash reports citing driver impairment or intoxication as a cause, (3) positive drug or alcohol test results on drivers, and (4) lack of appropriate testing or other deficiencies in motor carrier controlled substances and alcohol testing programs.

5. Vehicle Maintenance—CMV failure due to improper or inadequate maintenance. Data would include (1) roadside violations for brakes, lights, and other mechanical defects, (2) crash reports citing a mechanical failure as a contributing factor, or (3) violations from a compliance review or focused review associated with pre-trip inspections, maintenance records, and repair records.

6. Improper Loading/Cargo Securement—Shifting loads, spilled or dropped cargo, and unsafe handling of hazardous materials. Data would include (1) roadside inspection violations pertaining to load securement, cargo retention, and hazardous material handling, and (2) crash reports citing shifting loads, or spilled/dropped cargo as a cause or contributing factor.

7. Crash/Incident Experience—Histories or patterns of high crash involvement, including frequency and severity. Data would include law enforcement crash reports and crashes reported by the carrier and discovered during compliance reviews.

The concept of quantifying compliance and safety by numerical scores derived from data is not new to FMCSA. While a Measurement Component would be similar in approach to the agency's current system, SAFESTAT, there are key differences. In the Measurement Component, safety problems would be quantified by a greater number of behavioral areas associated with crash involvement and would use a broader range of available data. The goal is to identify poor performance early and take interventions before small violations become larger safety problems.

Questions

If the CSA 2010 model were to include a Measurement Component with some or all of the features described above:

1. Are the BASICs, referenced above, sufficient for measuring the safety performance of commercial motor carriers and drivers? If not, what other categories of data should be used?

2. Should the BASICs be weighted and scored in determining an objective measure of the safety performance of each commercial motor vehicle driver and carrier, if so, how? Please explain.

3. What is the appropriate historical timeframe to use when measuring the safety performance of CMV drivers and carriers (how far to look back)? Should the timeframe for carriers be different from the timeframe for drivers? Please explain.

4. What data should be used in each of the BASICs to provide an objective measure of the safety performance of CMV drivers and carriers, and from which sources should these data be obtained? Please describe.

5. What methodology should be used to quantify the relationship between crash causation and a given BASIC? Please explain.

6. What other issues should the Agency be considering with respect to the Measurement Component?

7. What do you see as the critical success factors for implementing a measurement system based on data from the BASICs? What are key potential obstacles to implementation?

Safety Fitness Determination

Under 49 U.S.C. 31144, FMCSA is required to “maintain by regulation a procedure for determining the safety fitness of an owner or operator.” The CSA 2010 conceptual model could include a Safety Fitness Determination Component to regularly determine the safety fitness of motor carriers and drivers of commercial motor vehicles. This determination could be based on performance-based data from the BASICs described above. This component could also incorporate the regulated entity's history of responses to prior interventions.

The Safety Fitness Determination Component could be used to determine whether a motor carrier, owner, or operator can Continue to Operate or is Unfit. On a regularly scheduled basis, FMCSA could evaluate all safety performance and compliance-based BASIC scores of each regulated entity. Safety fitness could be determined for all carriers and drivers for which there is sufficient data and could be determined on a regular basis as new data enter the operational model. A compliance review would not be required prior to a safety fitness determination. FMCSA anticipates a change of this nature would result in a significant increase in the number of safety fitness determinations issued by the Agency. The safety fitness determinations and the methodology used would be made available to the public, as they are today.

Currently, a safety fitness determination results in a rating of Satisfactory, Conditional, or Unsatisfactory. In the operational model under consideration, only two ratings would be used: Continue to Operate or Unfit. However, carriers, drivers, or owner-operators allowed to continue operations could be subject to a pending, intermediary intervention, as discussed below. Those with the most egregious safety problems could be deemed Unfit immediately and, in that case, would be subject to the prohibitions on operations contained in 49 U.S.C. 31144.

Questions

If the CSA 2010 model were to include a Safety Fitness Determination Component with some or all of the features described above:

1. What other data or behavioral factors, beyond the BASICs referenced above, should be considered in the safety fitness determination process for motor carriers or drivers? What data or behavioral factors should not be considered and why?

2. Should some BASICs be weighted more heavily than others? If so, which ones and why?

3. What is the appropriate timeframe that FMCSA should use in assessing safety fitness (e.g., the past 18 months, 24 months, 36 months)? Please explain.

4. How often (e.g., monthly, quarterly, annually) should FMCSA assess safety fitness and issue safety fitness determinations under the new operational model? Please explain.

5. Should safety fitness determinations be more stringent for certain industry groups such as passenger carriers or carriers of hazardous materials? Why or why not?

6. Should FMCSA adopt a two-tiered rating system (Continue to Operate or Unfit) instead of the current three-tiered rating system (Satisfactory, Conditional, and Unsatisfactory)? Why or why not?

7. What other issues should the Agency be considering with respect to the Safety Fitness Determination Component?

Intervention Selection and Entity Characteristics

The CSA 2010 conceptual model could include an Interventions Component which would identify appropriate FMCSA interventions for regulated entities with specific safety problems, depending on the outcomes of the Safety Fitness Determination and Measurement Components. An intervention, as used in this context, refers to any action FMCSA would take to correct unsafe behavior and achieve compliance. Aside from roadside inspections, the primary compliance intervention currently used is the compliance review. In the approach under consideration, the Agency could have a broader array of interventions, including: (1) Web-based education, (2) warning letters, (3) request for submission of documents, (4) targeted roadside inspections, (5) focused on-site reviews, (6) comprehensive on-site reviews, and (7) enforcement actions.

An Interventions Component of this nature would not necessarily rely on a compliance review to determine appropriate interventions. Measurement and Safety Fitness Determination Components under consideration could allow a driver or carrier to continue operating, but with some intermediary intervention pending. The Interventions Component would be designed as a tool to support correction of unsafe behavior. Once it has been determined that an intervention is necessary, an intervention could be selected to effectively and efficiently remediate the unsafe behavior. Interventions could be selected according to the BASIC scores from the Measurement and Safety Fitness Determination components, and the Entity Characteristics and Interventions History Data Elements.

A Characteristics Data Element could influence what type of intervention is selected. For example, a motor carrier transporting passengers could be selected for a stronger intervention than a general freight hauler, depending on the circumstances involved and available information.

Responses to prior interventions could be considered in the selection of future interventions through the Interventions History Data Element. Responses to prior interventions could also be considered by the Safety Fitness Determination Component.

Questions

If the CSA 2010 model were to include an Interventions Component with some or all of the features described above:

1. Would the larger set of compliance interventions under consideration here be more effective than the interventions currently used by FMCSA? Please explain.

2. Are there other types of driver and carrier interventions not described above that would improve motor carrier safety? Please describe.

3. Are there specific incentives that FMCSA could offer to encourage and promote improved safety performance? Please describe.

4. Should FMCSA use different interventions and intervention thresholds for certain carriers and drivers, such as those involved in the transport of passengers or hazardous materials? Please explain.

5. Would you support a system whereby FMCSA would declare CMV drivers Unfit, if warranted, and the States would suspend their driver's license (commercial or other)? Please explain.

6. What other issues should the Agency be considering with respect to the Interventions Selection Component?

7. How should responses to FMCSA interventions be factored into the safety fitness determinations?

Safety Data and Tracking, Evaluation and Data Validation

Given the data-dependent nature of the CSA 2010 model under consideration, data validation would be essential. As FMCSA deploys its IT modernization project, COMPASS, as the IT foundation for CSA 2010, robust data validation systems and techniques would be employed to ensure the accuracy and completeness of data. The information systems supporting the CSA 2010 model eventually adopted would examine the quality of incoming data by checking for anomalies. As it does currently, FMCSA would also ensure that regulated entities would have a way to correct data. The Agency's DataQs System already provides an electronic means for filing concerns about the Federal and State data that FMCSA releases to the public. Through this system, data concerns are automatically forwarded to the appropriate office for resolution. The system also allows filers to monitor the status of each filing.

The Tracking, Evaluation and Data Validation Component under consideration could support the three other components identified here: Measurement, Safety Fitness Determination, and Intervention Selection. The information systems supporting CSA 2010 would track regulated entities and would associate them with the relevant data collected by FMCSA. Data pertaining to regulated entities could include characteristics, BASIC scores, safety fitness determinations, interventions, and responses to interventions. FMCSA is working to replace existing paperwork tracking systems with automated data collection systems so that safety fitness determinations are made with the most current data available.

Questions

If the CSA 2010 model were to include a safety data component with some or all of the features described above:

1. What safety data are available that are not currently being used to measure the safety performance of drivers and carriers?

2. Are there safety data not available that are needed for this approach to be equitable? If so, please describe and discuss any potential barriers to collecting such data.

3. How could FMCSA better incorporate data quality assurance processes into CSA 2010?

4. What unique identifiers should be used to tie drivers and carriers to their safety performance data?

5. Are there any major obstacles that must be overcome to achieving accurate and complete data for use in the new operational model? Please explain.

6. What other issues should the Agency be considering with respect to Safety Data and Tracking, Evaluation and Data Validation?

7. Radio frequency identification device (RFID)-enabled license plates could be used to identify commercial motor vehicles at highway speeds. This could help focus inspection and traffic enforcement activities on unsafe or unregistered entities. What barriers would there be to States' issuing RFID enabled license plates?

Other Considerations

FMCSA is targeting full deployment of CSA 2010 by calendar year 2010, subject to budgetary constraints. The following timeline provides the major milestone dates that are planned prior to targeted deployment:

Define operational model technical requirements | 2006 to 2010.
Prototype ¹ development and testing | 2006 to 2007.
Pilot test development | 2006 to 2007.
Pilot testing | 2008.
Evaluate pilot test results | 2009.
Develop/define data resources | 2006 to 2009.
Develop data systems and software | 2006 to 2009.
Develop/draft new rulemakings | 2007 to 2009.
Develop/draft needed legislation | 2007 to 2008.
Develop/draft new policies | 2007 to 2009.
Training for pilot testing | 2006 to 2007.
Training for deployment | 2008 to 2009.
Outreach & public listening sessions | Annually.
Deploy | 2010.
¹ Prototype refers to testing in a laboratory environment, whereas pilot refers to actual testing with State partners.

Questions

1. What approaches do you recommend FMCSA use to work closely with its partners and stakeholders in building the CSA 2010 operational model? Please explain.

2. Are there certain initiatives which would support the CSA 2010 operational model eventually adopted that could be implemented now? Please explain.

3. Please provide any additional comments or information you may have that would be relevant to the development of the CSA 2010 operational model.

Issued on: October 11, 2006.
John H. Hill,
Administrator.

[FR Doc. 06-8723 Filed 10-16-06; 8:45 am]

BILLING CODE 4910-EX-P